DEPARTMENT OF COMMERCE

National Oceanic and Atmospheric Administration

Final Management Plan for the North Carolina National Estuarine Research Reserve

AGENCY: Office for Coastal Management, National Ocean Service, National Oceanic and Atmospheric Administration, U.S. Department of Commerce.

ACTION: Notice of approval of the revised management plan for the North Carolina National Estuarine Research Reserve.

SUMMARY: Notice is hereby given that the Office for Coastal Management, National Ocean Service, National Oceanic and Atmospheric Administration, U.S. Department of Commerce approves the revised management plan for the North Carolina National Estuarine Research Reserve. In accordance with applicable Federal regulations, the North Carolina Department of Environmental Quality's Division of Coastal Management revised the reserve's management plan, which replaces the plan previously approved in 2009.

ADDRESSES: The approved management plan can be downloaded or viewed at https://coast.noaa.gov/data/docs/nerrs/Reserves_NOC_MgmtPlan.pdf. The document is also available by sending a written request to the point of contact identified below (see FOR FURTHER INFORMATION).

FOR FURTHER INFORMATION CONTACT: Stephanie Robinson of NOAA's Office for Coastal Management, by email at steph.robinson@noaa.gov, phone at 843-740-1174, or mail at 2234 South Hobson Ave., Charleston, SC 29405.

SUPPLEMENTARY INFORMATION: Pursuant to 15 CFR 921.33(c), a state must revise the management plan for a research reserve at least every five years. Changes to a reserve's management plan may be made only after receiving written approval from NOAA. NOAA approves changes to management plans via notice in the Federal Register. On October 28, 2019, NOAA issued a notice in the Federal Register announcing a 30-day public comment period for the proposed revision of the management plan for the North Carolina National Estuarine Research Reserve (Federal Register, Volume 84, No. 208, pg. 57701). No comments were received; however, a summary of the public input process is available in Appendix U of the plan.

The management plan outlines the reserve's strategic goals and objectives; administrative structure; programs for conducting research and monitoring, education, and training; resource protection, restoration, and manipulation plans; public access and visitor use plans; consideration for future land acquisition; and facility development to support reserve operations. Since 2009, the reserve has completed its habitat map and added marsh vegetation and surface elevation monitoring; conducted a habitat vulnerability assessment to understand marsh vulnerability; led a number of research and training initiatives related to living shorelines; increased education programming at the Masonboro Island component of the reserve; begun implementing Teachers on the Estuary (TOTE) training; expanded use of volunteers to conduct citizen science regarding sensitive species and site conditions; and implemented training focused on informing real estate professionals about coastal issues. The revised management plan will serve as the guiding document for the 10,568-acre research reserve for the next five years.

NOAA reviewed the environmental impacts of the revised management plan and determined that this action is categorically excluded from further analysis under the National Environmental Policy Act, consistent with NOAA Administrative Order 216-6.]

Authority: 16 U.S.C. 1451 et seq.; 15 CFR 921.33.

Keelin S. Kuipers,
Deputy Director, Office for Coastal Management, National Ocean Service, National Oceanic and Atmospheric Administration.

[FR Doc. 2020-27603 Filed 12-15-20; 8:45 am]

BILLING CODE 3510-NK-P